DEPARTMENT OF DEFENSE

Department of the Navy

[Docket ID USN-2013-0035]

Proposed Collection; Comment Request

AGENCY: Department of the Navy (DON), DoD.

ACTION: Notice.

SUMMARY: In compliance with Section 3506(c)(2)(A) of the Paperwork Reduction Act of 1995, the Department of the Navy, announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 25, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Commander Naval Installations Command, N3AT Technology Officer, ATTN: Sharon Burch-Martin, Bldg 196, Rm. 123, 1325 10th Street SE., Washington Navy Yard, DC 20388 or call 202-433-9566; or Headquarters Marine Corps, Plans Policies and Operations, Security Division (PS), Security Branch, Security Technologies Section, ATTN: Charles Pierce/Le'Ron Lawrence, 3000 Marine Corps Pentagon Rm. 4A324, Washington, DC 20350-3000, or call 703-692-4333/703-634-2638.

SUPPLEMENTARY INFORMATION:

Title; Associated Form; and OMB Number: The IT collection system is the Navy Enabler Framework, which includes the Navy Access Control Management System (NACMS) and the U.S. Marine Corps Biometric and Automated Access Control System (BAACS); The associated Form is SECNAV 5512/1 Department of the Navy Local Population ID Card/Base Access Pass Registration Form; OMB Control Number 0703-TBD.

Needs and Uses: The information collection requirement is necessary to control physical access to Department of Defense (DOD), Department of the Navy (DON) or U.S. Marine Corps Installations/Units controlled information, installations, facilities, or areas over which DOD, DON or U.S. Marine Corps has security responsibilities by identifying or verifying an individual through the use of biometric databases and associated data processing/information services for designated populations for purposes of protecting U.S./Coalition/allied government/national security areas of responsibility and information; to issue badges, replace lost badges and retrieve passes upon separation; to maintain visitor statistics; collect information to adjudicate access to facility; and track the entry/exit of personnel.

Affected Public: Business or other for profit; Not-for-profit institutions.

Annual Burden Hours: 81,667.

Number of Respondents: 4.9 Million.

Responses per Respondent: 1.

Average Burden per Response: 10 minutes.

Frequency: Annually.

Respondents are non-DOD members of the general public, businesses or other for profit and not-for-profit institutions who are seeking to access DOD, DON or U.S. Marine Corps Installations/Bases, installations, facilities, or areas over which DOD, DON or U.S. Marine Corps has security responsibilities. The respondents appear in person, record their personal identifiable information on the SECNAV 5512/1 Department of the Navy Local Population ID Card/Base Access Pass Registration Form, and submit it to the DON/USMC registrar who verifies the information against required I-9 Identity proofing documents. The registrar then enters the respondent's registration data into the Navy's Access Control Management System (NACMS) or the USMC's Biometric and Automated Access Control System (BAACS), which respectively serve as the registering Installation's/Base's Physical Access Control System where the data is stored for local physical access control requirements. Upon entry, this information is also securely transmitted and stored within the Department of the Navy's authoritative data source (Enabler System) and within the Department of Defense's authoritative data source (Local Population Database). The data is used to perform background checks to determine the fitness of non-DOD persons who are requesting access to DOD, DON or U.S. Marine Corps military installations. Upon successful registration and background check, either a Local Population ID Card or Base Access Pass is issued to the respondent. Respondents who provide their personal identifiable information are consenting to collection of information by their action of voluntarily offering their I-9 documents, or fingerprints, irises, and facial profiles for biometric collection. Failure to provide requested information may result in denial of access to DOD installations, facilities, and buildings.

Dated: September 23, 2013.
Aaron Siegel,
Alternate OSD Federal Register Liaison Officer, Department of Defense.

[FR Doc. 2013-23481 Filed 9-25-13; 8:45 am]

BILLING CODE 5001-06-P